FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than

Unless otherwise noted, comments regarding the applications must be received at the Reserve Bank indicated or the offices of the Board of Governors not later than December 2, 2011.

A. Federal Reserve Bank of Philadelphia (William Lang, Senior Vice President) 100 North 6th Street Philadelphia, Pennsylvania 19105-1521:

1. Arthur J. Kania, St. Davids, Pennsylvania; to acquire voting shares of Franklin Security Bancorp, Inc., Wilkes Barre, Pennsylvania, and thereby indirectly acquire voting shares of Franklin Security Bank, Plains Township, Pennsylvania.

2. W. Kirk Wycoff, Ira M. Lubert, and James J. Lynch, all of Philadelphia, Pennsylvania; collectively to acquire voting shares of Continental Bank Holdings, Inc., and thereby indirectly acquire voting shares of Continental Bank, both in Plymouth Meeting, Pennsylvania.

B. Federal Reserve Bank of Atlanta (Chapelle Davis, Assistant Vice President) 1000 Peachtree Street NE., Atlanta, Georgia 30309:

1. Richard D. Ross, Leesville, Louisiana; to retain control of Merchants & Farmers Bancshares, Inc., and thereby indirectly retain control of Merchants & Farmers Bank & Trust Company, both in Leesville, Louisiana.

Board of Governors of the Federal Reserve System, November 14, 2011.
Robert deV. Frierson,
Deputy Secretary of the Board.

[FR Doc. 2011-29695 Filed 11-16-11; 8:45 am]

BILLING CODE 6210-01-P